DEPARTMENT OF DEFENSE

Office of the Secretary

Privacy Act of 1974; System of Records

AGENCY: Office of the Secretary, DoD

ACTION: Notice To Add a System of Records

SUMMARY: The Office of the Secretary of Defense Proposes To Add a System of Records to its Inventory of Record Systems Subject to the Privacy Act of 1974 (5 U.S.C. 552a), as Amended

DATES: The changes will be effective on August 9, 2004, unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on June 29, 2004, to the House Committee on Government Reform, the Senate Committee on Governmental Affairs, and the Office of Management and Budget (OMB) pursuant to paragraph 4c of appendix I to OMB Circular No. A-130, ‘Federal Agency Responsibilities for Maintaining Records About Individuals.’ dated February 8, 1996 (February 20, 1996, 61 FR 6427).

Dated: June 30, 2004.
L.M. Bynum,
Alternate OSD Federal Register Liaison Officer, Department of Defense.

DAFIS 01

System name:

Visual Information Management System (VIMS).

System location:

Primary location: American Forces Information Services, 601 North Fairfax Street, Alexandria, VA 22314-2007.

Secondary location: Defense Media Center, 1363 Z Street, Building 2730 March Air Reserve Base, Riverside, CA 92518-2073.

Categories of individuals covered by the system:

Any individual who uses the VIMS Internet site to order multimedia products.

Categories of records in the system:

Individual's name, rank, branch of military service, organization, mailing address, work and home telephone numbers, fax number, e-mail address, and order information such as what item was ordered, when the order was placed, when the order was sent out, and if the item was delivered.

Authority for maintenance of the system:

10 U.S.C. 131, Office of the Secretary of Defense; 5 U.S.C. 301, Departmental Regulations; DoD Directive 5122.10, American Forces Information Service (AFIS); DoD Directive 5040.2, Visual Information (VI); DoD Directive 5040.3, DoD Joint Visual Information Services; and DoD Directive 5040.4, Joint Combat Camera (COMCAM) Program.

Purpose(s):

The VIMS system is a digital visual information management system that will store, manage, and distribute multimedia products for sale over an Internet site. The individual's information is being collected and maintained so that their orders can be processed, verified, and tracked.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of OSD's compilation of systems of records notices apply to this system.

Policies and practices for storing, retrieving, accessing, retaining, and disposing of records in the system:

Storage:

Data will be stored on paper and on electronic medium.

Retrievability:

Information retrieved by individual's name.

Safeguards:

Records are maintained in a controlled facility. Physical entry is restricted by the use of locks, guards, or administrative procedures. Access to records is limited to those officials who require the records to perform their official duties consistent with the purpose for which the information was collected. All personnel whose official duties require access to the information are trained in the proper safeguarding and use of the information. Access to computerized data is restricted by passwords, which are changed periodically. Computer terminals are located in supervised areas with access control.

Retention and disposal:

Disposition pending (until the National Archives and Records Administration approves the retention and disposition of these records, treat as permanent).

System manager(s) and address:

VIMS Program Manager, Defense Visual Information, 601 North Fairfax Street, Alexandria, VA 22314-2007.

Notification procedure:

Individuals seeking to determine whether information about themselves is contained in this system of records should address written inquiries to the VIMS Program Manager, Defense Visual Information, 601 North Fairfax Street, Alexandria, VA 22314-2007.

Requests should contain full name, address, and telephone number.

Record access procedures:

Individuals seeking to access information about themselves contained in this system of records should address written inquiries to the VIMS Program Manager, Defense Visual Information, 601 North Fairfax Street, Alexandria, VA 22314-2007.

Requests should contain full name, address, and telephone number.

Contesting record procedures:

The OSD rules for accessing records, for contesting contents and appealing initial agency determinations are published in OSD Administrative Instruction 81; 32 CFR part 311; or may be obtained from the system manager.

Record source categories:

Individual customer.

Exemptions claimed for the system:

None.

[FR Doc. 04-15440 Filed 7-7-04; 8:45 am]

BILLING CODE 5001-06-M